ENVIRONMENTAL PROTECTION AGENCY

[FRL-7165-9

Proposed Administrative Order on Consent With Compromise of CERCLA Response Costs

AGENCY: U.S. Environmental Protection Agency (USEPA).

ACTION: Proposed AOC.

SUMMARY: U.S. EPA is proposing to issue an Administrative Order on Consent (AOC) under section 106 of CERCLA at the Old American Zinc (OAZ) Superfund Site. Respondent has agreed to perform a clean up of all hazardous soil and site-related material in residential and other at-risk areas adjacent to the Site, as well as to establish control monitoring of off-site migrating air and liquid materials in order to prevent recontamination, in return for U.S. EPA waiving past response costs of approximately $71,847.55. U.S. EPA today is proposing to issue this AOC waiver of past costs because it achieves a necessary removal action at a Site where there is a problem of air-borne contamination of a nearby residential and high-risk area.

DATES: Comments on this proposed settlement must be received by April 29, 2002.

ADDRESSES: Copies of the proposed settlement are available at the following address for review: (It is recommended that you telephone Ms. Janet Pope at (312) 353-0628 before visiting the Region V Office). Ms. Janet Pope, OPA (P-19J), U.S. Environmental Protection Agency, Region V, Office of Superfund, Removal and Enforcement Response Branch, 77 W. Jackson Blvd., Chicago, Illinois 60604.

Comments on this proposed settlement should be addressed to: (Please submit an original and three copies, if possible) Ms. Janet Pope, Community Relations Coordinator, Office of Public Affairs, U.S. Environmental Protection Agency, Region V, 77 W. Jackson Boulevard (P-19J), Chicago, Illinois 60604, (312) 353-0628.

FOR FURTHER INFORMATION CONTACT: Ms. Janet Pope, Office of Public Affairs, at (312) 353-0628.

SUPPLEMENTARY INFORMATION: The OAZ Site is 132 acres in size and consists of the central Site that once held a smelter facility, and surrounding residential, industrial and commercial properties. The Site is bordered by Delmar Street on the north; Kings Highway and Rose Creek on the east; 45th Street on the west; and, railroad tracks of the Penn Central and Baltimore and Ohio lines on the south. The Site was discovered by the Illinois EPA in 1994. U.S. EPA became involved with the Site in 1999. After initial sampling and a November 1999 Site Assessment, U.S. EPA determined that contaminants of concern at the Site included arsenic, cadmium, lead and zinc. U.S. EPA determined that this represented an imminent and substantial threat to human health. After general notice and negotiations, between September 2000 and February 2002, U.S. EPA and the Respondent achieved an AOC for the removal action at the residential and other properties adjacent to the Site. In exchange for completion of the removal, U.S. EPA has offered the Respondent contribution protection, a covenant not to sue and waiver of the past response costs associated with the Site. These costs total approximately $71,847.55.

A 30-day period, beginning on the date of publication, is open pursuant to section 122(i) of CERCLA for comments on the proposed settlement.

Comments should be sent to Ms. Janet Pope of the Office of Public Affairs (P-19J), U.S. Environmental Protection Agency, Region V, 77 W. Jackson Boulevard, Chicago, Illinois 60604.

This action is taken under the authority of 42 U.S.C. section 122(i).

Wendy L. Carney,
Acting Director, Superfund Division.

[FR Doc. 02-7770 Filed 3-28-02; 8:45 am]

BILLING CODE 6560-50-M